DEPARTMENT OF STATE

[Public Notice 6843]

Advisory Committee on International Postal and Delivery Services

AGENCY: Department of State.

ACTION: Notice of renewal of the Advisory Committee charter.

Renewal of Advisory Committee: The Secretary of State announces the renewal of the charter of the Advisory Committee on International Postal and Delivery Services in fulfillment of the provisions of the 2006 Postal Accountability and Enhancement Act (Pub. L. 109-435) and in accordance with the Federal Advisory Committee Act. A copy of the renewed charter is available at the following link: http://www.state.gov/documents/organization/133108.pdf.

Purpose: The purpose of the Advisory Committee is to serve the Department of State in an advisory capacity with respect to the formulation, coordination, and oversight of foreign policy related to international postal services and other international delivery services. The Committee provides a forum for government employees, representatives of the industry sector and members of the public to present their advice and views directly to the Department of State.

For further information, please contact Dennis Delehanty, Office of Global Systems (IO/GS), Bureau of International Organization Affairs, U.S. Department of State, at (202) 647-4197.

Dated: December 10, 2009.
Dennis M. Delehanty,
Foreign Affairs Officer, Department of State.

[FR Doc. E9-30832 Filed 12-28-09; 8:45 am]

BILLING CODE 4710-19-P